DEPARTMENT OF TRANSPORTATION

Office of the Secretary

[OST Docket No. 2012-0028]

Notice of Submission of Proposed Information Collection to OMB

AGENCY: Office of the Secretary, Department of Transportation.

ACTION: Notice and request for comments.

SUMMARY: In accordance with the Paperwork Reduction Act of 1995, as amended, this notice announces the Department of Transportation's (DOT) Office of Aviation Consumer Protection's (OACP) intention to request the reinstatement of an Office of Management and Budget (OMB) control number for the collection of emergency contingency plans for tarmac delays from U.S. carriers and U.S. airports as required by the FAA Modernization and Reform Act. On February 23, 2017, OMB issued a DOT control number 2105-0566 authorizing these collections of information related to the submission by U.S. carriers and U.S. airports of tarmac delay contingency plans for review and approval by the DOT, as well as the public posting of those plans. The control number expired on February 29, 2020.

DATES: Comments on this notice must be received by April 12, 2024. Interested persons are invited to submit comments regarding this proposal.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE, West Building Ground Floor Room W-12/140, Washington, DC 20590-0001;

• Hand Delivery: West Building Ground Floor, Room W-12/140, 1200 New Jersey Ave., SE, between 9 a.m. and 5 p.m., Monday through Friday, except Federal holidays. The telephone number is 202-366-9329.

• Instructions: You must include the agency name and docket number DOT-OST-2010-0211 at the beginning of your comment. All comments received will be posted without change to https://www.regulations.gov, including any personal information provided.

• Privacy Act: Anyone can search the electronic form of all comments received in any of our dockets by the name of the individual submitting the comment (or signing the comment, if submitted on behalf of an association, business, labor union, etc.). You may review DOT's complete Privacy Act statement in the Federal Register published on April 11, 2000 (65 FR 19477-78), or you may visit www.dot.gov/privacy.

• Docket: For access to the docket to read background documents or comments received, go to https://www.regulations.gov and follow the online instructions for accessing the docket.

FOR FURTHER INFORMATION CONTACT: Daeleen Chesley, Office of the Secretary, Office of Aviation Consumer Protection (C-70), U.S. Department of Transportation, 1200 New Jersey Ave. SE, Washington, DC 20590, at Daeleen.Chesley@dot.gov (Email) or (202) 366-6792. Arrangements to receive this document in an alternative format may be made by contacting the above-named individual.

SUPPLEMENTARY INFORMATION: The FAA Modernization and Reform Act (Act), which was signed into law on February 14, 2012, requires U.S. carriers that operate scheduled passenger service or public charter service using any aircraft with a design capacity of 30 or more seats, and operators of large hub, medium hub, small hub, or non-hub U.S. airports, to submit emergency contingency plans for lengthy tarmac delays to the Secretary of Transportation for review and approval. In addition to requiring the initial submission of emergency contingency plans, the Act requires U.S. air carriers to submit an updated plan every 3 years and U.S. airport operators to submit an updated plan every 5 years. The Act further requires each covered carrier and airport to ensure public access to its plan after DOT approval by posting the plan on its website.

DOT has an online system allowing covered U.S. air carriers and U.S. airports to submit plans online.¹ On June 2, 2015, DOT published a 60-day FR Notice to renew/reinstate the OMB control number (80 FR 31455) and on June 17, 2016, a 30-day FR notice was published (81 FR 39750). On February 23, 2017, OMB reinstated the OMB control number, which expired on February 29, 2020. DOT is issuing this 60-day notice to reinstate the OMB control number.²

¹ OACP is modernizing its consumer complaints database to provide a more efficient means for air carriers and airports to submit their plans. Should the submission process change prior to the date plans are due, OACP will give covered entities advance notice of the revised procedure for plan submission.

² We note that the information collection requirements are specifically required by statute and are not imposed as an exercise of the DOT's discretion.

The Paperwork Reduction Act of 1995 (PRA) and its implementing regulations, 5 CFR part 1320, require Federal agencies to issue two notices, a 60-day notice followed by a 30-day notice, seeking public comment on information collection activities before OMB may approve paperwork packages. A Federal agency generally cannot conduct or sponsor a collection of information, and the public is generally not required to respond to an information collection, unless it is approved by the OMB under the PRA and displays a currently valid OMB Control Number. In addition, notwithstanding any other provisions of law, no person shall generally be subject to monetary penalty for failing to comply with a collection of information if the collection of information does not display a valid OMB Control Number. See 5 CFR 1320.5(a) and 1320.6.

For each of these information collections, the title, a description of the respondents, and an estimate of the annual recordkeeping and periodic reporting burden are set forth below:

1. Requirement to submit tarmac delay contingency plan to DOT for review and approval.

Title: Filing of Tarmac Delay Contingency Plan to DOT.

Respondents: Each large, medium, small and non-hub airport in the U.S.; U.S. carriers that operate scheduled passenger service or public charter service using any aircraft with a design capacity of 30 or more seats.

Estimated Number of Respondents: 391 U.S. airports ³ and 76 U.S. airlines.⁴

³ Based on FAA CY22 information, there are 31 large, 33 medium, 73 small, and 254 non-hub covered airports. See, https://www.faa.gov/sites/faa.gov/files/2023-09/cy22-commercial-service-enplanements.pdf.

⁴ The number of covered airlines was calculated using current data provided to OACP by the Bureau of Transportation Statistics (BTS).

Frequency: Every 5 years for covered U.S. airports; every 3 years for covered U.S. airlines.

Estimated Total Burden on Respondents:

For U.S. airports—195.5 hours (391 existing airports × .5 hours = 195.5 hours). This estimate is based on the following facts/assumptions: Tarmac delay plans for submission are general in nature and do not consist of extensive airport-specific customization. Airport associations prepared templates for use by U.S. airports which require very little additional information to be customized for individual airports and have been the templates for most of the airport plans submitted. For U.S. airports that have already prepared and submitted a plan and will continue to be subject to this requirement, they will need to review and update the plan through the DOT's electronic submission system. We estimate .5 hour for these 391 airports to review, update, and submit the plan through the DOT's electronic submission system.⁵

⁵ The total number of airports required to submit plans has decreased from 401 to 391 (-10 airports). The burden is calculated with the assumption that no new airports need to submit a plan. However, if there are any new airports that are required to submit a plan, the burden estimate for such an airport would be two hours.

For U.S. airlines—54.5 hours [(65 existing carriers × .5 hours = 32.5 hours) + (11 new carrier × 2 hours = 22 hours) = 54.5 hours]. Although airlines often choose to prepare more detailed plans for internal use, airline plans for submission generally are not very detailed and provide only the level of information required to meet the statutory requirement. In addition, currently operating U.S. carriers are already required to have such plans in place as this is a continuing requirement and the statute has been in place since 2012. Therefore, we estimate that the 65 covered U.S. carriers will spend .5 hour to review, update, and submit the plan through the DOT's electronic submission system. For the 11 carriers that had not prepared and submitted a plan to meet the requirement in 2017, we estimate 2 hours to review and prepare the templates, and to submit the plan through the DOT's electronic submission system.⁶

⁶ Based on CY 2022 information provided by the Bureau of Transportation Statistics (BTS), the number of covered carriers that must submit plans increased from 65 to 76 (+11 carriers). As such, the estimated burden for U.S. carriers has slightly increased.

2. Requirement to ensure public access to tarmac delay plan after DOT approval (as required by the Act).

Title: Posting of Tarmac Delay Contingency Plan on websites.

Respondents: Each large, medium, small and non-hub airport in the U.S.; U.S. carriers that operate scheduled passenger service or public charter service operating to or from the United States, using any aircraft with a design capacity of 30 or more seats.

Estimated Number of Respondents: 391 U.S. airports and 76 U.S. airlines.

Estimated Total Frequency: Every 5 years for covered U.S. airports; every 3 years for covered U.S. airlines (if not already posted or if there are updates).

Burden on Respondents: 116.75 hours [(391 airports × .25 hours = 97.75 hours) + (76 airlines × .25 hours = 19 hours) = 116.75 hours]. We estimate that the time to upload a plan to a website is 15 minutes as covered U.S. carriers and airports are already required to have such plans in place and plans are generally short and do not take long to upload.

We invite comments on (a) whether the collection of information is necessary for the proper performance of the functions of the DOT, including whether the information will have practical utility; (b) the accuracy of the DOT's estimate of the burden of the proposed information collection; (c) ways to enhance the quality, utility and clarity of the information to be collected; and (d) ways to minimize the burden of the collection of information on respondents, including the use of automated collection techniques or other forms of information technology. All responses to this notice will be summarized and included in the request for OMB approval. All comments will also become a matter of public record on the docket.

Authority: The Paperwork Reduction Act of 1995; 44 U.S.C. Chapter 35, as amended; and 49 CFR 1.26, 1.27, 1.48 and 1.49; DOT Order 1351.29.

Signed in Washington, DC, on this 1st day of February 2024, under authority delegated at 49 U.S.C. 1.27(n).
Livaughn Chapman Jr.,
Deputy Assistant General Counsel for the Office of Aviation Consumer Protection.

[FR Doc. 2024-02472 Filed 2-9-24; 8:45 am]

BILLING CODE 4910-9X-P